DEPARTMENT OF ENERGY

Federal Energy Regulatory Commission

Combined Notice of Filings #1

Take notice that the Commission received the following electric corporate filings:

Docket Numbers: EC19-139-000.

Applicants: Bethel Wind Energy LLC, Elk Wind Energy LLC.

Description: Joint Application for Authorization Under Section 203 of the Federal Power Act of Elk Wind Energy LLC, et al.

Filed Date: 9/19/19.

Accession Number: 20190919-5125.

Comments Due: 5 p.m. ET 10/10/19.

Take notice that the Commission received the following electric rate filings:

Docket Numbers: ER10-2138-023; ER10-2139-023.

Applicants: Grand Ridge Energy II LLC, Grand Ridge Energy III LLC.

Description: Notice of Change in Facts Under Market-Based Rate Authority of Grand Ridge Energy II LLC, et al.

Filed Date: 9/19/19.

Accession Number: 20190919-5121.

Comments Due: 5 p.m. ET 10/10/19.

Docket Numbers: ER19-1680-002.

Applicants: Southwest Power Pool, Inc.

Description: Tariff Amendment: 2236R11 GSEC NITSA/NOA—Extension of Time for FERC Action to be effective 4/1/2019.

Filed Date: 9/20/19.

Accession Number: 20190920-5114.

Comments Due: 5 p.m. ET 10/11/19.

Docket Numbers: ER19-2434-000.

Applicants: Citizens Imperial Solar LLC.

Description: Supplement to July 22, 2019 Citizens Imperial Solar LLC tariff filing.

Filed Date: 9/19/19.

Accession Number: 20190919-5122.

Comments Due: 5 p.m. ET 10/10/19.

Docket Numbers: ER19-2534-000.

Applicants: Citizens Energy Corporation.

Description: Supplement to August 5, 2019 Citizens Energy Corporation tariff filing.

Filed Date: 9/19/19.

Accession Number: 20190919-5123.

Comments Due: 5 p.m. ET 10/10/19.

Docket Numbers: ER19-2833-000.

Applicants: Power Supply Partners, LLC.

Description: Baseline eTariff Filing: Market-Based Rate Tariff Application to be effective 9/20/2019.

Filed Date: 9/19/19.

Accession Number: 20190919-5112.

Comments Due: 5 p.m. ET 10/10/19.

Docket Numbers: ER19-2834-000.

Applicants: Southern California Edison Company.

Description: § 205(d) Rate Filing: Amendments to SGIA and LGIA, Tehachapi Wind Wall, LLC, SA 185/186 to be effective 9/23/2019.

Filed Date: 9/20/19.

Accession Number: 20190920-5000.

Comments Due: 5 p.m. ET 10/11/19.

Docket Numbers: ER19-2835-000.

Applicants: Midcontinent Independent System Operator, Inc.

Description: § 205(d) Rate Filing: 2019-09-20_Attachment X True-up to Remove Rejected Site Control Language to be effective 4/24/2019.

Filed Date: 9/20/19.

Accession Number: 20190920-5050.

Comments Due: 5 p.m. ET 10/11/19.

Docket Numbers: ER19-2836-000.

Applicants: Alabama Power Company.

Description: § 205(d) Rate Filing: Camp Lawton Solar LGIA Filing to be effective 9/6/2019.

Filed Date: 9/20/19.

Accession Number: 20190920-5054.

Comments Due: 5 p.m. ET 10/11/19.

Docket Numbers: ER19-2837-000.

Applicants: Alabama Power Company.

Description: § 205(d) Rate Filing: Peach Blossom Energy III LGIA Filing to be effective 9/9/2019.

Filed Date: 9/20/19.

Accession Number: 20190920-5055.

Comments Due: 5 p.m. ET 10/11/19.

Docket Numbers: ER19-2838-000.

Applicants: PJM Interconnection, L.L.C.

Description: § 205(d) Rate Filing: Second Revised ISA No. 3840; Queue No. AD2-167 to be effective 8/21/2019.

Filed Date: 9/20/19.

Accession Number: 20190920-5056.

Comments Due: 5 p.m. ET 10/11/19.

Docket Numbers: ER19-2839-000.

Applicants: PJM Interconnection, L.L.C.

Description: § 205(d) Rate Filing: Orginal WMPA SA No. 5487; Queue No. AB2-122 to be effective 8/23/2019.

Filed Date: 9/20/19.

Accession Number: 20190920-5075.

Comments Due: 5 p.m. ET 10/11/19.

Docket Numbers: ER19-2840-000.

Applicants: Pacific Gas and Electric Company.

Description: § 205(d) Rate Filing: 2019 Amendment to PWRPA SAs, revising rates based on 2018 demand (SA 30) to be effective 10/1/2019.

Filed Date: 9/20/19.

Accession Number: 20190920-5091.

Comments Due: 5 p.m. ET 10/11/19.

Docket Numbers: ER19-2841-000.

Applicants: Arizona Public Service Company.

Description: § 205(d) Rate Filing: Rate Schedule No. 217, Exhibit B to be effective 11/20/2019.

Filed Date: 9/20/19.

Accession Number: 20190920-5101.

Comments Due: 5 p.m. ET 10/11/19.

Docket Numbers: ER19-2842-000.

Applicants: Southern California Edison Company.

Description: § 205(d) Rate Filing: Amended and Restated Victorville-Lugo Interconnection Agreement, RS FERC No. 51 to be effective 11/20/2019.

Filed Date: 9/20/19.

Accession Number: 20190920-5102.

Comments Due: 5 p.m. ET 10/11/19.

Docket Numbers: ER19-2843-000.

Applicants: Pacific Gas and Electric Company.

Description: Tariff Cancellation: Notice of Termination of Elkhorn Energy Storage E&P Agreement to be effective 11/19/2019.

Filed Date: 9/20/19.

Accession Number: 20190920-5112.

Comments Due: 5 p.m. ET 10/11/19.

Docket Numbers: ER19-2844-000.

Applicants: Pacific Gas and Electric Company.

Description: § 205(d) Rate Filing: PG&E Elkhorn Energy Storage LGIA (SA 379) to be effective 11/19/2019.

Filed Date: 9/20/19.

Accession Number: 20190920-5113.

Comments Due: 5 p.m. ET 10/11/19.

Docket Numbers: ER19-2845-000.

Applicants: Southwest Power Pool, Inc.

Description: § 205(d) Rate Filing: Revisions to Require Phasor Measurement Units at New Generator Interconnections to be effective 11/20/2019.

Filed Date: 9/20/19.

Accession Number: 20190920-5115.

Comments Due: 5 p.m. ET 10/11/19.

Docket Numbers: ER19-2846-000.

Applicants: Trans Bay Cable LLC.

Description: § 205(d) Rate Filing: Revisions to Appendix I of the Trans Bay TO Tariff to be effective 11/23/2019.

Filed Date: 9/20/19.

Accession Number: 20190920-5131.

Comments Due: 5 p.m. ET 10/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2019.
Nathaniel J. Davis, Sr.,
Deputy Secretary.

[FR Doc. 2019-21044 Filed 9-27-19; 8:45 am]

BILLING CODE 6717-01-P